DEPARTMENT OF TRANSPORTATION

Federal Aviation Administration

14 CFR Part 39

[Docket No. FAA-2012-1134; Directorate Identifier 2012-CE-034-AD; Amendment 39-17345; AD 2013-03-10]

RIN 2120-AA64

Airworthiness Directives; Lindstrand Hot Air Balloons Ltd Appliances

AGENCY: Federal Aviation Administration (FAA), DOT.

ACTION: Proposed rule; correction.

SUMMARY: The FAA is correcting an airworthiness directive (AD) that published in the Federal Register. That AD applies to certain Lindstrand Hot Air Balloons Ltd female ACME threaded hose connectors, part numbers HS6139 and HS6144, installed on balloons. The text in the section titled PART-39—AIRWORTHINESS DIRECTIVES, paragraph (c) Applicability, is incorrect. This document corrects that error. In all other respects, the original document remains the same.

DATES: This final rule is effective March 27, 2013. The effective date for AD 2013-03-10; Amendment 39-17345 (78 FR 9785, February 12, 2013) remains March 19, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION: Airworthiness Directive 2013-03-10; Amendment 39-17345 (78 FR 9785, February 12, 2013), requires inspecting the female ACME threaded hose connectors, (P/Ns) HS6139 and HS6144, for leaking and, if leaking is found, tightening the threaded hose connector to the correct torque.

As published, the text in the section titled PART-39—AIRWORTHINESS DIRECTIVES, paragraph (c) Applicability, is incorrect. Reports from the field indicate confusion as to the way the applicability of AD 2013-03-10; Amendment 39-17345 (78 FR 9785, February 12, 2013) is currently written. Some interpret that the AD applies to all balloons and requires a logbook entry regardless of installation of the defective part. The AD should apply to the female ACME threaded hose connectors as installed on any balloon. If these connectors are never installed, then this AD does not apply to that balloon, and this AD does not require a logbook entry.

No other part of the preamble or regulatory information has been changed; therefore, only the changed portion of the final rule is being published in the Federal Register.

This final rule is effective March 27, 2013. The effective date for AD 2013-03-10; Amendment 39-17345 (78 FR 9785, February 12, 2013) remains March 19, 2013.

Correction of Regulatory Text

§ 39.13 [Corrected]

In the Federal Register of February 12, 2013, on page 9787, in the 1st column, all of the text, in paragraph (c) Applicability under PART 39—AIRWORTHINESS DIRECTIVES of Airworthiness Directive 2013-03-10; Amendment 39-17345; (78 FR 9785; February 12, 2013) is corrected to read as follows:

* * * * *

(c) Applicability

This AD applies to Lindstrand Hot Air Balloons Ltd female ACME threaded hose connectors, part numbers (P/Ns) HS6139 and HS6144, all serial numbers, as installed in hot air balloons, certificated in any category. If these connectors are never installed, then this AD does not apply to that balloon.”

* * * * *

Issued in Kansas City, Missouri, on March 19, 2013.
Earl Lawrence,
Manager, Small Airplane Directorate, Aircraft Certification Service.

[FR Doc. 2013-07030 Filed 3-26-13; 8:45 am]

BILLING CODE 4910-13-P